DEPARTMENT OF LABOR

Employment and Training Administration

[TA-W-62,864]

Ametek, Inc., Measurement and Calibration Technology Division, Sellersville, PA; Notice of Revised Determination on Reconsideration

On June 16, 2008, the Department issued an Affirmative Determination Regarding Application for Reconsideration applicable to workers and former workers of the subject firm. The notice was published in the Federal Register on June 25, 2008 (73 FR 36119).

The previous investigation initiated on February 21, 2008, resulted in a negative determination issued on April 18, 2008. The decision was based on the finding that the number of workers separated from the subject did not constitute a significant number or proportion of the subject worker group (at least 5 percent) and there was no threat of future separations. The denial notice was published in the Federal Register on May 2, 2008 (73 FR 24318).

To support the request for reconsideration, the petitioner supplied additional information regarding employment at the subject firm and indicated that a sufficient number of employees have been separated from the subject firm during November 2007.

It was subsequently revealed by the company official, that the subject firm separated a significant number of workers during the relevant period and there was a threat of future separations.

Upon further investigation it was determined that Ametek, Inc., Measurement and Calibration Technology Division, Sellersville, Pennsylvania supplied gauge component parts, including electrical cord reels, constant force springs, mechanical reels, and power springs that were used in the production of electronic instrumentation and gauges, and a loss of business with domestic manufacturers (whose workers were certified eligible to apply for adjustment assistance) contributed importantly to the workers' separation or threat of separation. The parts supplied were related to the articles that were the basis of certification.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that workers of Ametek, Inc., Measurement and Calibration Technology Division, Sellersville, Pennsylvania qualify as adversely affected secondary workers under Section 222 of the Trade Act of 1974, as amended. In accordance with the provisions of the Act, I make the following certification:

All workers of Ametek, Inc., Measurement and Calibration Technology Division, Sellersville, Pennsylvania, who became totally or partially separated from employment on or after February 8, 2007, through two years from the date of this certification, are eligible to apply for adjustment assistance under Section 223 of the Trade Act of 1974, and are also eligible to apply for alternative trade adjustment assistance under Section 246 of the Trade Act of 1974.

Signed in Washington, DC this 30th day of July 2008.
Elliott S. Kushner,
Certifying Officer, Division of Trade Adjustment Assistance.

[FR Doc. E8-18166 Filed 8-6-08; 8:45 am]

BILLING CODE 4510-FN-P